DEPARTMENT OF HEALTH AND HUMAN SERVICES

Centers for Disease Control and Prevention

[30Day-24-1078]

Agency Forms Undergoing Paperwork Reduction Act Review

In accordance with the Paperwork Reduction Act of 1995, the Centers for Disease Control and Prevention (CDC) has submitted the information collection request titled “The Division of Workforce Development (DWD) Fellowship Alumni Assessment” to the Office of Management and Budget (OMB) for review and approval. CDC previously published a “Proposed Data Collection Submitted for Public Comment and Recommendations” notice on October 30, 2023, to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

The Division of Workforce Development (DWD) Fellowship Alumni Assessment (OMB Control No. 0920-1078, Exp. 02/29/2024)—Revision—National Center for State, Tribal, Local, and Territorial Public Health Infrastructure and Workforce (NCSTLTPHIW), Centers for Disease Control and Prevention (CDC).

Background and Brief Description

The Centers for Disease Control and Prevention (CDC) works to protect America from health, safety and security threats, both foreign and in the U.S. CDC strives to fulfill this mission, in part, through a competent and capable public health workforce. One mechanism for developing the public health workforce is through fellowship programs like those sponsored and supported by the Division of Workforce Development (DWD). A robust public health workforce has sufficient workforce, organizational, and systems capacity to deliver essential public health services and protect the public's health. In 2023, after an agency-wide CDC reorganization, a number of CDC career fellowships were consolidated within one new division, DWD, which has a lead role in public health workforce development. Across all of its branches, DWD manages or supports many full-time, cross-cutting career fellowship programs that support CDC and State, Tribal, local, and Territorial health departments, and partner organizations. Through these programs, DWD strives to provide quality training for current and future members of the public health workforce to ensure they have foundational and contemporary public health skills. Nearly all these programs serve as a pathway to CDC career communities and are an important source of supply for the public health workforce.

In 2015, CDC obtained OMB approval to conduct follow-up surveys of alumni who had completed the Public Health Associate Program (PHAP) (OMB No. 0920-1078). Findings from the PHAP alumni surveys have improved CDC's understanding of alumni retention and career progression in the public health workforce and have informed management of the PHAP. In this Revision, CDC proposes to build on lessons learned in PHAP fellowship evaluation. CDC will broaden the scope of information collection to accommodate the full portfolio of DWD fellowships, which currently includes the Epidemiology Elective Program (EEP), Evaluation Fellowship Program(EFP), Epidemic Intelligence Service (EIS), Future Leaders in Infectious and Global Health Threats (FLIGHT), Laboratory Leadership Service (LLS), CDC Steven M. Teutsch Prevention Effectiveness (PE) Fellowship, Public Health Informatics Fellowship Program (PHIFP), and the Science Ambassador Fellowship (SAF), in addition to the Public Health Associate Program (PHAP). This ICR is also intentionally removing the host site supervisor component included in the original ICR. This revision will specifically focus on fellowship alumni only. A new ICR will be created for any host site supervisor surveys these fellowships may seek to conduct.

Each year, new cohorts ranging from three to 200 individuals are enrolled across these fellowship programs. While each fellowship differs in focus area, type of fellow, and projects, they all have the same mission: to train and provide learning opportunities to early- and mid-career professionals who contribute to the public health workforce. All share a common goal that, post-fellowship, alumni seek employment within the public health system (i.e., Federal, State, Tribal, local, or Territorial health agencies, or non-governmental organizations). Given this common goal, CDC will apply a common approach to assessing how fellowship participation impacts the job placement, retention in the public health workforce, and career progression of alumni. DWD Fellowship Alumni Surveys will be administered to individual program alumni at three different time points (one year, three years, and five years post-program completion). Each fellowship program will invite their program's alumni to participate. Fellowships will be deploying surveys specific to their programs. Assessment questions will remain consistent at each administration timepoint (i.e., one year, three years, or five years post-program completion). The language, however, will be updated for each survey administration to reflect the appropriate time period. There is a core set of assessment questions that all fellowship programs will use. Each program can also add fellowship-specific questions to their surveys to ensure relevance of the surveys to each program's alumni. Surveys will be administered electronically; a link to the survey will be provided in an email invitation. CDC will use survey findings to document program outcomes, demonstrate evidence of impact, and inform decision making about future program direction. The results of these surveys may be published in peer reviewed journals and/or in non-scientific publications such as practice reports and/or fact sheets.

OMB approval is requested for three years. The estimated burden is between 8-25 minutes per respondent per survey, and the total annualized estimated burden is 175 hours. Participation is voluntary and there are no costs to respondents other than their time.

Estimated Annualized Burden Hours
Type of respondents | Form name | Number of respondents | Number of responses per respondent | Average burden per response (in hours)
EEP Alumni | EEP Alumni Survey | 135 | 1 | 20/60
EFP Alumni | EFP Alumni Survey | 60 | 1 | 8/60
EIS/LLS Alumni | EIS/LLS Alumni Survey | 210 | 1 | 25/60
FLIGHT Alumni | FLIGHT Alumni Survey | 5 | 1 | 8/60
PE Fellowship Alumni | PE Fellowship Alumni Survey | 25 | 1 | 8/60
PHIFP Alumni | PHIFP Alumni Survey | 20 | 1 | 8/60
PHAP Alumni | PHAP Alumni Survey | 130 | 1 | 8/60
SAF Alumni | SAF Alumni Survey | 60 | 1 | 10/60

Jeffrey M. Zirger,
Lead, Information Collection Review Office, Office of Public Health Ethics and Regulations, Office of Science, Centers for Disease Control and Prevention.

[FR Doc. 2024-02682 Filed 2-8-24; 8:45 am]

BILLING CODE 4163-18-P